DEPARTMENT OF THE INTERIOR

Bureau of Land Management

[LLORP00000.L10200000.DF0000.LXSSH1040000.222.HAG 22-0013]

Notice of Public Meetings for the John Day-Snake Resource Advisory Council Planning Subcommittee and the John Day Snake Resource Advisory Council, Oregon

AGENCY: Bureau of Land Management, Interior.

ACTION: Notice of public meetings.

SUMMARY: In accordance with the Federal Land Policy and Management Act of 1976 and the Federal Advisory Committee Act of 1972, the U.S. Department of the Interior, Bureau of Land Management's (BLM) John Day-Snake Resource Advisory Council (RAC) Planning Subcommittee and John Day-Snake RAC will meet as follows.

DATES: The John Day-Snake RAC Planning Subcommittee will meet virtually via the Zoom platform Wednesday, September 14, 2022, from 6 p.m. Pacific Time (PT) to 8 p.m. PT; and the John Day Snake RAC will hold an in-person meeting Thursday, October 20, 2022, from 8 a.m. to 5:30 p.m. PT, including a field tour from 1:30 p.m. until 5:30 p.m. PT to the Restoration Fuels Torrefaction Plant. The RAC will reconvene Friday, October 21, 2022, from 8 a.m. PT to 1 p.m. PT.

Virtual meetings may substitute for in-person meetings depending on public health policies in place at the Department of the Interior at the time of the meetings. A change to virtual meetings and instructions on how to access those meetings will be posted on the RAC's website (see ADDRESSES) at least 10 days in advance of those meetings.

A public comment period will be offered each day and the meetings and field tour are open to the public in their entirety.

ADDRESSES: Final agendas for each meeting and contact information regarding Zoom meeting details will be published on the RAC's web page at least 10 days in advance at https://www.blm.gov/get-involved/resource-advisory-council/near-you/oregon-washington/john-day-rac.

The meetings scheduled for October 20-21, 2022 will take place at the Malheur National Forest Supervisor's Office, 431 Patterson Bridge Rd., John Day, OR 97845, and travel to the Restoration Fuels Torrefaction Plant located at 60339 US-26, John Day, OR 97845.

Comments to the RAC and the subcommittee can be mailed to: BLM Prineville District; Attn. Dennis Teitzel; 3050 NE 3rd St., Prineville, OR 97754, or emailed to dteitzel@blm.gov.

FOR FURTHER INFORMATION CONTACT: Larisa Bogardus, Public Affairs Officer, 3100 H St., Baker City, OR 97814; telephone: (541) 219-6863; email: lbogardus@blm.gov. Individuals in the United States who are deaf, deafblind, hard of hearing, or have a speech disability may dial 711 (TTY, TDD, or TeleBraille) to access telecommunications relay services for contacting Ms. Bogardus. Individuals outside the United States should use the relay services offered within their country to make international calls to the point-of-contact in the United States.

SUPPLEMENTARY INFORMATION: The 15-member John Day-Snake RAC was chartered and members are appointed by the Secretary of the Interior. Its diverse perspectives are represented in commodity, conservation, and general interests. It provides advice to the BLM and, as needed, to U.S. Forest Service resource managers regarding management plans and proposed resource actions on public land in the John Day-Snake area.

The Planning Subcommittee was established to gather information, conduct research, and analyze relevant issues and facts on selected topics for future consideration by the RAC. The Subcommittee's primary goal is to provide information to the RAC members that allows them to better respond to time-sensitive issues, such as responding to an environmental document within the public comment period. No decisions are made at the subcommittee level. The Subcommittee will gather information on recreation fee proposals at the September meeting for consideration by the RAC during its October meeting.

The RAC's October meeting will include presentations on a Malheur National Forest recreation fee proposal for selected developed cabins and campgrounds, and a Central Oregon Field Office fee proposal for John Day River. The afternoon field tour is to the Restoration Fuels thermal treatment facility where the RAC will learn about methods that utilize tree thinnings and low-value wood materials from stewardship projects in national forests and private-land treatments to produce fuel for energy. Participants must register to attend the field tour at least 14 days in advance using the contact contained in the FOR FURTHER INFORMATION CONTACT section of this notice. Members of the public are welcome on field tours but must provide their own transportation and meals. Individuals who plan to attend and need special assistance, such as sign language interpretation and other reasonable accommodations, should contact the BLM (see FOR FURTHER INFORMATION CONTACT). Meetings and field tours will follow current Centers for Disease Control and Prevention COVID-19 guidance regarding social distancing and wearing of masks. Standing agenda items include management of energy and minerals, timber, rangeland and grazing, commercial and dispersed recreation, wildland fire and fuels, and wild horses and burros; review of or recommendations regarding proposed actions by Vale or Prineville BLM districts and the Wallowa-Whitman, Umatilla, Malheur, Ochoco, and Deschutes National Forests; and any other business that may reasonably come before the RAC.

The Designated Federal Officer will attend the call, take minutes, and publish these minutes on the RAC's web page (see ADDRESSES). All calls/meetings are open to the public in their entirety.

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

Dennis C. Teitzel,
Prineville District Manager.

[FR Doc. 2022-06454 Filed 3-25-22; 8:45 am]

BILLING CODE 4310-JB-P